FEDERAL COMMUNICATIONS COMMISSION

47 CFR Parts 2, 90, and 97

[WT Docket No. 19-348; FCC 20-138; FRS 17120]

Facilitating Shared Use in the 3100-3550 MHz Band

AGENCY: Federal Communications Commission.

ACTION: Final rule; correction.

SUMMARY: The Federal Communications Commission is correcting a final that appeared in the Federal Register on October 9, 2020. In the document, the Commission adopts changes to its rules to prepare the 3.45-3.55 GHz band for commercial wireless services. It removes the secondary, non-federal allocations in the 3.3-3.55 GHz band for radiolocation services and the amateur radio service. These services will continue in alternate spectrum; radiolocation operations will be moved to the 2.9-3.0 GHz band, already home to similar operations, and amateur licensees will be able to relocate their operations to other frequencies already available for amateur operations. Clearing this band of secondary services will allow the Commission to auction the 3.45-3.55 GHz band for commercial wireless services on a co-primary basis with federal radio navigation and radiolocation operations.

DATES: Effective: November 9, 2020.

FOR FURTHER INFORMATION CONTACT: Joyce Jones, Wireless Telecommunications Bureau, Mobility Division, (202) 418-1327 or joyce.jones@fcc.gov, or Ira Keltz, Office of Engineering and Technology, (202) 418-0616 or ira.keltz@fcc.gov.

SUPPLEMENTARY INFORMATION: In FR Doc 2020-22528 appearing on page 64068 in the Federal Register of October 9, 2020, the following corrections are made:

§ 97.209 [Corrected]

On page 64068 the instruction “Amend § 97.209 by revising paragraph (b)(9) to read as follows:” Is corrected to read “Amend § 97.209 by revising paragraph (b)(2) to read as follows:”

Federal Communications Commission.
Marlene Dortch
Secretary, Office of the Secretary.

[FR Doc. 2020-23209 Filed 11-2-20; 8:45 am]

BILLING CODE 6712-01-P